DEPARTMENT OF EDUCATION

Applications for New Awards; Competitive Grants for State Assessments Program

AGENCY: Office of Elementary and Secondary Education, Department of Education.

ACTION: Notice.

SUMMARY: The Department of Education (Department) is issuing a notice inviting applications for fiscal year (FY) 2020 for the Competitive Grants for State Assessments program, Catalog of Federal Domestic Assistance (CFDA) number 84.368A. This notice relates to the approved information collection under OMB control number 1894-0006.

DATES:

Applications Available: May 1, 2020.

Deadline for Notice of Intent to Apply: June 1, 2020.

Deadline for Transmittal of Applications: June 30, 2020.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Donald Peasley, Office of Elementary and Secondary Education, U.S. Department of Education, 400 Maryland Avenue SW, Room 3W106, Washington, DC 20202-6132. Telephone: (202) 453-7982. Email: ESEA.Assessment@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Competitive Grants for State Assessments (CGSA) program is to enhance the quality of assessment instruments and assessment systems used by States for measuring the academic achievement of elementary and secondary school students.

Background: The purpose of the CGSA program is to support States' efforts to improve the technical quality of their assessment systems—both the quality of individual State assessments and the overall field of State assessments. In this competition, the Department is using three absolute priorities to encourage State educational agencies (SEAs) to consider new approaches to their State assessment systems. Two of these priorities, Absolute Priorities 1 and 2, build on the flexibility in section 1204 of the Elementary and Secondary Education Act of 1965, as amended by the Every Student Succeeds Act (ESEA), which establishes the Innovative Assessment Demonstration Authority (IADA).

Given the national emergency related to the coronavirus disease 2019 (COVID-19), flexible approaches to education, including innovative, formative, and competency-based assessments such as those that these priorities will support, are essential for students, parents, and educators.

IADA provides an opportunity for an SEA to pilot a new and innovative approach to assessments by first implementing it in a subset of schools or LEAs. Students in those schools would take the innovative assessment in place of the statewide assessment and their results would be included in the State's accountability system. Over a period of five years, the SEA would scale up the innovative assessment to eventually replace the statewide assessment. Absolute Priorities 1 and 2 encourage States to use CGSA funds to improve alignment with and support related work through the IADA.

In 2018 and 2019, the Department published notices inviting applications (NIAs) for IADA and approved four SEAs through this authority. During the initial demonstration period (as defined in ESEA section 1204(b)(3) and 34 CFR 200.104(d)), up to seven SEAs may be approved for IADA. After the initial demonstration period, and upon meeting the requirements in ESEA section 1204(d), the Secretary may grant IADA flexibility to additional SEAs. Absolute Priority 2 in this CGSA competition aims to support SEAs that are planning to apply for the IADA authority and Absolute Priority 1 is for SEAs that are currently implementing an approved IADA plan. Approval for a CGSA grant for those SEAs planning to apply for IADA does not imply or infer that the Department will ultimately approve that SEA to implement its subsequent IADA proposal. However, the Department believes that the work to plan for IADA will strengthen the State's assessment system, even if the SEA is not ultimately granted IADA flexibility.

The Department is including a third priority in this competition for States that are neither planning to apply for nor implementing the IADA. Absolute Priority 3 is from the notice of final priorities published on August 8, 2016 in the Federal Register (81 FR 52341) (2016 NFP) and focuses on States that are developing innovative assessment item types and design approaches for their assessment systems. The Department believes that innovative item types and innovative assessment approaches can allow students to gain valuable experience by demonstrating complex work and critical thinking skills. Assessments can improve student learning by providing data that can support and inform instruction, particularly if the data are timely and targeted. As such, the Department believes it is important for applicants under this priority to focus their proposals on the complex tasks of developing, evaluating, and implementing new, innovative item types or developing approaches to transforming traditional summative assessment forms into more innovative forms.

The Department intends to fund one or more projects under each of the absolute priorities and is also establishing different project periods and budget ranges for each absolute priority. In particular, the Department will make IADA planning grants under Absolute Priority 2 available for a project period not to exceed 18 months, with a maximum budget request of $500,000 or the minimum amount specified in section 1203(b)(1)(C) of the ESEA (whichever is greater for an individual State) for the total project period. Since a planning grant is intended to provide support only during the preparation of an IADA proposal, this will give an SEA or consortium of SEAs sufficient time to prepare an application for submission. Similarly, the Department anticipates that the budget request for a planning grant will be substantially lower than for an IADA implementation grant under Absolute Priority 1, both because the project period would be shorter and because the work would be more targeted, preliminary, and smaller in scope. Grants for IADA implementation under Absolute Priority 1 or for developing innovative assessment item types and design approaches under Absolute Priority 3 are available for up to 48 months with a maximum budget request of $3,000,000 for the total project period.

Section 1203(b)(1)(A) of the ESEA identifies the six allowable uses of funds under CGSA. In brief, these uses include developing or improving assessments for English learners; developing or improving models to measure and assess student progress or student growth on assessments; developing or improving assessments for children with disabilities; allowing for collaboration with institutions of higher education or other organizations to improve the quality, validity, and reliability of State academic assessments; measuring student academic achievement using multiple measures of student academic achievement from multiple sources; and evaluating student academic achievement using comprehensive academic assessment instruments (such as performance and technology-based academic assessments, computer adaptive assessments, projects, or extended performance task assessments) that emphasize the mastery of standards and aligned competencies in a competency-based education model. An SEA, or consortium of SEAs, applying for funds under any of the absolute priorities in this CGSA competition must describe in its application how it is meeting one or more of these six allowable uses of funds.

Priorities: This competition includes three absolute priorities. Absolute Priorities 1 and 2 are from the Department's notice of final priorities published elsewhere in this issue of the Federal Register. Absolute Priority 3 is from the 2016 NFP.

Absolute Priorities: For FY 2020 and any subsequent year in which we make awards from the list of unfunded applications from this competition, these priorities are absolute priorities. Under 34 CFR 75.105(c)(3), we consider only applications that meet one of these priorities. The Secretary intends to create three separate funding slates, one for each absolute priority. The Secretary intends to award at least one grant under each absolute priority for which applications of sufficient quality are submitted. As a result, the Secretary may fund applications out of the overall rank order. Eligible applicants must specify which absolute priority they are applying under in the project abstract.

These priorities are:

Absolute Priority 1: Implementing the Innovative Assessment Demonstration Authority (IADA).

Under this priority, SEAs must—

(a) Be approved for IADA as of the date of their CGSA application. If applying as part of a consortium (or in partnership with other SEAs), each SEA must be approved for IADA as of the date of its CGSA application; and

(b) Be implementing IADA, consistent with all requirements of section 1204 of the ESEA and applicable regulations as of the date of their CGSA application. If applying for CGSA as part of a consortium (or in partnership with other SEAs), each SEA must individually meet this requirement; and

(c) Describe how the SEA will use CGSA funds to implement its approved IADA plan.

Absolute Priority 2: Planning to Apply for the Innovative Assessment Demonstration Authority (IADA).

Under this priority, SEAs must—

(a) Provide an assurance by an authorized representative that the SEA intends to apply for flexibility under the IADA, when made available by the Department. If applying for CGSA as part of a consortium (or in partnership with other SEAs), each SEA must provide an assurance that it intends to apply for flexibility under the IADA;

(b) If applying as a consortium of SEAs during the initial demonstration authority for IADA, not include more than four SEAs; and

(c) Describe their approach to innovative assessments in terms of the subjects and grades the SEA anticipates addressing, the proposed assessment design, proposed item types (e.g., item prototypes), and other relevant features.

Absolute Priority 3: Developing Innovative Assessment Item Types and Design Approaches.

Under this priority, SEAs must:

(a) Develop, evaluate, and implement new, innovative item types for use in summative assessments in reading/language arts, mathematics, or science;

(1) Development of innovative item types under paragraph (a) may include, for example, performance tasks; simulations; or interactive, multi-step, technology-rich items that can support competency-based assessments or portfolio projects;

(2) Projects under this priority must be designed to develop new methods for collecting evidence about a student's knowledge and abilities and ensure the quality, validity, reliability, and fairness (such as by incorporating principles of universal design for learning) of the assessment and comparability of student data; or

(b) Develop new approaches to transform traditional, end-of-year summative assessment forms with many items into a series of modular assessment forms, each with fewer items than the end-of-year summative assessment.

(1) To respond to paragraph (b), applicants must develop modular assessment approaches which can be used to provide timely feedback to educators and parents as well as be combined to provide a valid, reliable, and fair summative assessment of individual students.

(c) Applicants proposing projects under either paragraph (a) or (b) must provide a dissemination plan to share lessons learned and best practices such that their projects can serve as models and resources that can be shared with other States.

Application Requirement: For FY 2020, and any subsequent year in which we make awards from the list of unfunded applications from this competition, applicants must meet the following application requirement from section 1203(b)(1)(B) of the ESEA, which refers to section 1201(a)(2)(C) and (H)-(K) of the ESEA.

Uses of Funds: Applicants must demonstrate that their proposed uses of funds for CGSA would be to carry out one or more of the following activities:

(a) Developing or improving assessments for English learners, including assessments of English language proficiency as required under section 1111(b)(2)(G) of the ESEA and academic assessments in languages other than English to meet the State's obligations under section 1111(b)(2)(F) of the ESEA.

(b) Developing or improving models to measure and assess student progress or student growth on State assessments under section 1111(b)(2) of the ESEA and other assessments not required under section 1111(b)(2) of the ESEA.

(c) Developing or improving assessments for children with disabilities, including alternate assessments aligned to alternate academic achievement standards for students with the most significant cognitive disabilities described in section 1111(b)(2)(D) of the ESEA, and using the principles of universal design for learning.

(d) Allowing for collaboration with institutions of higher education, other research institutions, or other organizations to improve the quality, validity, and reliability of State academic assessments beyond the requirements for such assessments described in section 1111(b)(2) of the ESEA.

(e) Measuring student academic achievement using multiple measures of student academic achievement from multiple sources.

(f) Evaluating student academic achievement through the development of comprehensive academic assessment instruments (such as performance and technology-based academic assessments, computer adaptive assessments, projects, or extended performance task assessments) that emphasize the mastery of standards and aligned competencies in a competency-based education model.

Definitions: For FY 2020 and any subsequent year in which we make awards from the list of unfunded applications from this competition, the following definitions apply. The definitions of “Child with a disability,” “English learner,” and “Universal design for learning” are from section 8101 of the ESEA (20 U.S.C. 7801). The definitions of “Demonstrates a rationale,” “Logic model,” “Project component,” and “Relevant outcome” are from 34 CFR 77.1.

Child with a disability, as defined in section 602 of the Individuals with Disabilities Education Act, means—

(A) A child—

(i) With intellectual disabilities, hearing impairments (including deafness), speech or language impairments, visual impairments (including blindness), serious emotional disturbance (referred to in the IDEA as “emotional disturbance”), orthopedic impairments, autism, traumatic brain injury, other health impairments, or specific learning disabilities; and

(ii) Who, by reason thereof, needs special education and related services.

(B) The term “child with a disability” for a child aged 3 through 9 (or any subset of that age range, including ages three through five), may, at the discretion of the State and the local educational agency, include a child—

(i) Experiencing developmental delays, as defined by the State and as measured by appropriate diagnostic instruments and procedures, in 1 or more of the following areas: physical development; cognitive development; communication development; social or emotional development; or adaptive development; and

(ii) Who, by reason thereof, needs special education and related services.

Demonstrates a rationale means a key project component included in the project's logic model is informed by research or evaluation findings that suggest the project component is likely to improve relevant outcomes.

English learner, when used with respect to an individual, means an individual—

(A) Who is aged 3 through 21;

(B) Who is enrolled or preparing to enroll in an elementary school or secondary school;

(C)(i) Who was not born in the United States or whose native language is a language other than English;

(ii)(I) Who is a Native American or Alaska Native, or a native resident of the outlying areas; and

(II) Who comes from an environment where a language other than English has had a significant impact on the individual's level of English language proficiency; or

(iii) Who is migratory, whose native language is a language other than English, and who comes from an environment where a language other than English is dominant; and

(D) Whose difficulties in speaking, reading, writing, or understanding the English language may be sufficient to deny the individual—

(i) The ability to meet the challenging State academic standards;

(ii) The ability to successfully achieve in classrooms where the language of instruction is English; or

(iii) The opportunity to participate fully in society.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Universal design for learning, as defined under section 103 of the Higher Education Act of 1965, as amended, means a scientifically valid framework for guiding educational practice that—

(a) Provides flexibility in the ways information is presented, in the ways students respond or demonstrate knowledge and skills, and in the ways students are engaged; and

(b) Reduces barriers in instruction, provides appropriate accommodations, supports, and challenges, and maintains high achievement expectations for all students, including students with disabilities and students who are limited English proficient.¹

¹ For purposes of this notice, English learner and limited English proficient have the same meaning.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The 2016 NFP. (e) The notice of final priorities published elsewhere in this issue of the Federal Register. (f) The IADA regulations in 34 CFR 200.104-200.108.

Program Authority: Section 1203(b)(1) of the ESEA (20 U.S.C. 6363(b)(1)).

II. Award Information

Type of Award: Discretionary grants.

Estimated Available Funds: $12,327,000.

Contingent upon the availability of funds and the quality of applications, we may make additional awards in FY 2021 (or later) from the list of unfunded applications from this competition.

Estimated Range of Awards for the Project Period:

(a) Absolute Priority 1: Implementing the IADA: $1,000,000 to $3,000,000.

(b) Absolute Priority 2: Planning to Apply for the IADA: $100,000 to $500,000.

(c) Absolute Priority 3: Developing Innovative Item Types and Design Approaches: $1,000,000 to $3,000,000.

Estimated Average Size of Awards for the Project Period:

(a) Absolute Priority 1: Implementing the IADA: $2,500,000.

(b) Absolute Priority 2: Planning to Apply for the IADA: $300,000.

(c) Absolute Priority 3: Developing Innovative Item Types and Design Approaches: $2,500,000.

Maximum Size of Awards for the Project Period: We will not make an award exceeding these amounts:

(a) Absolute Priority 1: Implementing the IADA: $3,000,000.

(b) Absolute Priority 2: Planning to Apply for the IADA: $500,000 or the State statutory minimum award amount as specified in section 1203(b)(1)(C) of the ESEA if greater than $500,000.

(c) Absolute Priority 3: Developing Innovative Item Types and Design Approaches: $3,000,000.

Note: The Department will not make an award under any of the absolute priorities for less than the amount specified in section 1203(b)(1)(C) of the ESEA.

Estimated Number of Awards:

(a) Absolute Priority 1: Implementing the IADA: 1-3.

(b) Absolute Priority 2: Planning to Apply for the IADA: 1-3.

(c) Absolute Priority 3: Developing Innovative Item Types and Design Approaches: 1-3.

Note: The Department is not bound by any estimates in this notice.

Project Period:

(a) Absolute Priority 1: Implementing the IADA: up to 48 months.

(b) Absolute Priority 2: Planning to Apply for the IADA: up to 18 months.

(c) Absolute Priority 3: Developing Innovative Item Types and Design Approaches: up to 48 months.

III. Eligibility Information

1. Eligible Applicants: SEAs, as defined in section 8101(49) of the ESEA, of the 50 States, the District of Columbia, and the Commonwealth of Puerto Rico, and consortia of such SEAs.

2. Cost Sharing or Matching: This competition does not require cost sharing or matching.

3. Subgrantees: A grantee under this competition may not award subgrants to entities to directly carry out project activities described in its application.

4. Other: An application from a consortium of SEAs must designate one SEA as the fiscal agent.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

Grants.gov has relaxed the requirement for applicants to have an active registration in the System for Award Management (SAM) in order to apply for funding during the COVID-19 pandemic. An applicant that does not have an active SAM registration can still register with Grants.gov, but must contact the Grants.gov Support Desk, toll-free, at 1-800-518-4726, in order to take advantage of this flexibility.

2. Submission of Proprietary Information: Given the types of projects that may be proposed in applications for the CGSA, your application may include business information that you consider proprietary. In 34 CFR 5.11, we define “business information” and describe the process we use in determining whether any of that information is proprietary and, thus, protected from disclosure under Exemption 4 of the Freedom of Information Act (5 U.S.C. 552, as amended). Because we plan to make all application materials public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. However, under 34 CFR 79.8(a), we waive intergovernmental review in order to make awards by the end of FY 2020.

4. Funding Restrictions: We reference regulations outlining funding restrictions in the Applicable Regulations section of this notice.

5. Recommended Page Limit: The project narrative is where you, the applicant, address the selection criteria that reviewers use to evaluate your application. We recommend that you (1) limit the application narrative to the equivalent of no more than 65 pages and (2) use the following standards:

• A “page” is 8.5” x 11”, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit applies to the project narrative, including the table of contents, which must include a discussion of how the application meets one of the absolute priorities; and how well the application addresses each of the selection criteria. The recommended page limit also applies to any attachments to the project narrative other than the items mentioned in Part 6 of the application package, including the references/bibliography. In other words, we recommend that the entirety of the project narrative, including the aforementioned discussion and any attachments to the project narrative, be limited to the equivalent of no more than 65 pages. The only allowable attachments other than those included in the project narrative are outlined in Part 6, “Other Attachments Forms,” in the application package.

The recommended 65-page limit, or its equivalent, does not apply to the following sections of an application: Part 1 (including the response regarding research activities involving human subjects); Part 2 (budget information); Part 3 (two-page project abstract); Part 5 (the budget narrative); Part 6 (memoranda of understanding or other binding agreement, if applicable; copy of applicant's indirect cost rate agreement; letters of commitment and support from collaborating SEAs and organizations; other attachments forms, including, if applicable, references/bibliography for the project narrative and individual résumés for project director(s) and key personnel); and Part 7 (standard assurances and certifications). Applicants are encouraged to limit each résumé to no more than five pages.

Please note, hyperlinks should not be used in an application. Reviewers will be instructed not to follow hyperlinks if included. Applicants are encouraged to submit applications that meet the page limit following the standards outlined in this section rather than submitting applications that are the equivalent of the page limit applying other standards.

6. Notice of Intent to Apply:

We are better able to develop a more efficient process for reviewing grant applications if we have a better understanding of the number of applicants that intend to apply for funding under this competition. Therefore, we strongly encourage each potential applicant to notify us of the applicant's intent to submit an application for funding and which absolute priority the applicant intends to address. This notification should be brief and identify the SEA applicant and, in the case of consortia applicants, the SEA that it will designate as the fiscal agent for an award. Submit this notification by email to ESEA.Assessment@ed.gov with “Intent to Apply” in the email subject line or mail to Donald Peasley, U.S. Department of Education, 400 Maryland Avenue SW, room 3W106, Washington, DC 20202-6132. Applicants that do not provide this notification may still apply for funding.

V. Application Review Information

1. Selection Criteria: The selection criteria for this competition are from 34 CFR 75.210. We will award up to 100 points to an application under the selection criteria; the total possible points for each selection criterion are noted in parentheses.

(a) Need for project (up to 10 points).

The Secretary considers the need for the proposed project. In determining the need for the proposed project, the Secretary considers the extent to which specific gaps or weaknesses in services, infrastructure, or opportunities have been identified and will be addressed by the proposed project, including the nature and magnitude of those gaps or weaknesses.

(b) Significance (up to 10 points).

The Secretary considers the significance of the proposed project. In determining the significance of the proposed project, the Secretary considers the extent to which the proposed project is likely to build local capacity to provide, improve, or expand services that address the needs of the target population.

(c) Quality of the project design (up to 20 points).

The Secretary considers the quality of the design of the proposed project. In determining the quality of the design of the proposed project, the Secretary considers the following factors:

(1) The extent to which the goals, objectives, and outcomes to be achieved by the proposed project are clearly specified and measurable. (5 points)

(2) The extent to which the proposed project will establish linkages with other appropriate agencies and organizations providing services to the target population. (5 points)

(3) The extent to which the proposed project is part of a comprehensive effort to improve teaching and learning and support rigorous academic standards for students. (5 points)

(4) The extent to which the proposed project demonstrates a rationale (as defined in this notice). (5 points)

(d) Quality of project services (up to 25 points).

The Secretary considers the quality of the services to be provided by the proposed project. In determining the quality of the services to be provided by the proposed project, the Secretary considers:

(1) The quality and sufficiency of strategies for ensuring equal access and treatment for eligible project participants who are members of groups that have traditionally been underrepresented based on race, color, national origin, gender, age, or disability. (10 points)

(2) The extent to which the services to be provided by the proposed project are appropriate to the needs of the intended recipients or beneficiaries of those services. (10 points)

(3) The extent to which the training or professional development services to be provided by the proposed project are of sufficient quality, intensity, and duration to lead to improvements in practice among the recipients of those services. (5 points)

(e) Adequacy of resources (up to 10 points).

The Secretary considers the adequacy of resources for the proposed project. In determining the adequacy of resources for the proposed project, the Secretary considers the extent to which the costs are reasonable in relation to the number of persons to be served and to the anticipated results and benefits.

(f) Quality of the management plan (up to 20 points).

The Secretary considers the quality of the management plan for the proposed project. In determining the quality of the management plan for the proposed project, the Secretary considers:

(1) The adequacy of the management plan to achieve the objectives of the proposed project on time and within budget, including clearly defined responsibilities, timelines, and milestones for accomplishing project tasks. (10 points)

(2) The extent to which the time commitments of the project director and principal investigator and other key project personnel are appropriate and adequate to meet the objectives of the proposed project. (10 points)

(g) Quality of the project evaluation (up to 5 points).

The Secretary considers the quality of the evaluation to be conducted of the proposed project. In determining the quality of the evaluation, the Secretary considers the extent to which the methods of evaluation are thorough, feasible, and appropriate to the goals, objectives, and outcomes of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: Under the Government Performance and Results Act of 1993, the Department has developed three measures to evaluate the overall effectiveness of the CGSA program:

(1) The percentage of grantees, for each grant cycle, that demonstrate significant progress towards improving, developing, or implementing a new model for measuring the achievement of students.

(2) The percentage of grantees, for each grant cycle, that demonstrate collaboration with institutions of higher education, other research institutions, or other organizations to develop or improve State assessments.

(3) The percentage of grantees that, at least three times during the period of their grants, make available to SEA staff in non-participating States and to assessment researchers information on findings resulting from the CGSA program through presentations at national conferences, publications in refereed journals, or other products disseminated to the assessment community.

Grantees will be expected to include in their interim and final performance reports information about the accomplishments of their projects.

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Frank Brogan,
Assistant Secretary for Elementary and Secondary Education.

[FR Doc. 2020-09336 Filed 4-30-20; 8:45 am]

BILLING CODE 4000-01-P